DEPARTMENT OF VETERANS AFFAIRS

[OMB Control No. 2900-0900]

Agency Information Collection Activity: Department of Veterans Affairs Acquisition Regulation (VAAR) Contract Clause—Information and Information Systems Security

AGENCY: Office of Acquisition and Logistics, Department of Veterans Affairs.

ACTION: Notice.

SUMMARY: Office of Acquisition and Logistics (OAL), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before March 6, 2026.

ADDRESSES: Comments must be submitted through www.Regulations.gov.

FOR FURTHER INFORMATION CONTACT:

Program-Specific Information: Forrest Browne, 202-632-9677, Forrest.Browne@va.gov.

VA PRA Information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OAL invites comments on: (1) whether the proposed collection of information is necessary for the proper performance of OAL's functions, including whether the information will have practical utility; (2) the accuracy of OAL's estimate of the burden of the proposed collection of information; (3) ways to enhance the quality, utility, and clarity of the information to be collected; and (4) ways to minimize the burden of the collection of information on respondents, including through the use of automated collection techniques or the use of other forms of information technology.

Title: Department of Veterans Affairs Acquisition Regulation (VAAR) Contract Clause—Information and Information Systems Security.

OMB Control Number: 2900-0900. https://www.reginfo.gov/public/do/PRASearch (Once at this link, you can enter the OMB Control Number to find the historical versions of this Information Collection).

Type of Review: Revision of a currently approved collection.

Abstract: Under Public Law 113-283, Federal Information Security Modernization Act of 2014, each agency of the Federal Government must provide security for the information and information systems that support the operations and assets of the agency. To comply with Public Law 113-283, VA developed VAAR clause, 852.204-71, Information and Information System Security, and section 804.1970, Information security policy—contractor general responsibilities. The clause and the section apply to contractors with access to VA information or information systems. Among other things, the clause and section require a contractor to report a known or suspected security/privacy incident or data breach related to VA information or information systems. The clause also requires a contractor to notify VA when a contractor employee has been reassigned or terminated and no longer needs access to a VA information system.

Affected Public: Business or other for-profit.

Estimated Annual Burden: 4,069 hours.

Estimated Average Burden per Respondent: 30 minutes.

Frequency of Response: Less than quarterly.

Estimated Number of Respondents: 8,223.

Authority: 44 U.S.C. 3501 et seq.

Dorothy Glasgow,
Acting, VA PRA Clearance Officer, Office of Information Technology, Data Governance Analytics, Department of Veterans Affairs.

[FR Doc. 2025-24265 Filed 1-2-26; 8:45 am]

BILLING CODE 8320-01-P